SURFACE TRANSPORTATION BOARD

[Docket No. MCF 21140]

Van Pool Transportation LLC and AG Van Pool Holdings, LP—Acquisition of Control—Lavdas Enterprises, Inc.

AGENCY: Surface Transportation Board.

ACTION: Notice tentatively approving and authorizing finance transaction.

SUMMARY: Van Pool Transportation LLC (Van Pool) and AG Van Pool Holdings, LP (AG Holdings) (collectively, Applicants), both noncarriers, have filed an application to acquire control of an interstate passenger motor carrier, Lavdas Enterprises, Inc. dba Lavdas Limousines, Inc. (Lavdas). The Board is tentatively approving and authorizing the transaction. If no opposing comments are timely filed, this notice will be the final Board action.

DATES: Comments must be filed by January 26, 2026. If any comments are filed, Applicants may file a reply by February 10, 2026. If no opposing comments are filed by January 26, 2026, this notice shall be effective on January 27, 2026.

ADDRESSES: Comments, referring to Docket No. MCF 21140, may be filed with the Board either via e-filing on the Board's website or in writing addressed to: Surface Transportation Board, 395 E Street SW, Washington, DC 20423-0001. In addition, send one copy of comments to Applicants' representative: Kiefer A. Light, Beacon Mobility Corp., 3700 Embassy Parkway, Suite 500, Akron, OH 44333.

FOR FURTHER INFORMATION CONTACT: Amanda Gorski at (202) 748-3874. If you require an accommodation under the Americans with Disabilities Act, please call (202) 245-0245.

SUPPLEMENTARY INFORMATION: On November 14, 2025, Van Pool and AG Holdings, both noncarriers, filed an application to acquire control of an interstate passenger motor carrier, Lavdas. According to the Applicants, Van Pool is a Delaware limited liability company indirectly controlled by AG Holdings through intermediary holding companies.¹ (Appl. 2-3.) Neither Van Pool nor AG Holdings is a federally regulated carrier. (Id. at 2-3.) However, Van Pool directly owns and controls all equity and voting interests in the following 22 interstate passenger motor carriers (the Affiliated Carriers): ²

¹ Specifically, Applicants state that Van Pool is wholly owned by VP Intermediate Company (VP Intermediate), a Delaware corporation and noncarrier holding company, and that VP Intermediate is wholly owned by Beacon Mobility Corp. (Beacon Mobility), a Delaware corporation and noncarrier holding company. (Appl. 13.) Beacon Mobility is wholly owned by Beacon Mobility Intermediate Corp. (Beacon Intermediate), a Delaware corporation and noncarrier holding company. (Id.) Beacon Intermediate is wholly owned by Beacon Mobility Preferred Issuer, LLC (Beacon Preferred), a Delaware limited liability company and noncarrier holding company, and Beacon Preferred is wholly owned by Van Pool Group Holdings, L.P. (Group Holdings), a Delaware limited partnership and noncarrier holding company. (Id.) Group Holdings is majority-owned and controlled by AG Holdings, a Delaware limited partnership and noncarrier holding company. (Id.) AG Holdings is owned by investment funds affiliated with Audax Management Company, LLC (the Audax Funds), a Delaware limited liability company. (Id. at 13-14.) According to Applicants, none of these entities has interstate passenger motor carrier authority, a U.S. Department of Transportation (USDOT) Number, or a USDOT Safety Rating, and none of the entities control any regulated interstate passenger carriers other than as set forth in the application. (Id. at 14.)

² Applicants state that Van Pool directly owns or controls all equity and voting interests in 21 interstate passenger motor carriers. (Id. at 2.) However, in the application, Applicants identify 22 such carriers. (Id. at 2-3, 4-11.) Additionally, in a separate application filed with the Board on November 26, 2025, Applicants seek Board authority to acquire control over Rolling V Bus Corp. and STS of New Mexico, LLC, upon becoming regulated passenger carriers. Van Pool Transp. LLC—Acquis. of Control—Rolling V Bus Corp., Docket No. MCF 21141. The Board will address that application in a separate decision.

• NRT Bus, Inc., which primarily provides non-regulated student transportation services for schools in Massachusetts (Essex, Middlesex, Norfolk, Suffolk, and Worcester Counties), and occasional charter services, (Appl. at 2, 4);

• Trombly Motor Coach Service, Inc., which primarily provides non-regulated student transportation services for schools in Massachusetts (Essex and Middlesex Counties), and occasional charter services, (id.);

• Salter Transportation, Inc., which primarily provides non-regulated student transportation services for schools in Massachusetts (Essex County) and New Hampshire, and occasional charter services, (id. at 2, 4-5);

• Easton Coach Company, LLC, which provides (i) intrastate paratransit, shuttle, and line-run services under contracts with regional transportation authorities and other organizations, primarily in New Jersey and eastern Pennsylvania, and (ii) private intrastate and interstate charter motor coach and shuttle services, primarily in eastern Pennsylvania, (id. at 2-3, 5);

• F. M. Kuzmeskus, Inc., dba Travel Kuz, which provides (i) non-regulated school bus transportation services, (ii) intrastate and interstate motor coach and limousine charter services, and (iii) limited intrastate and interstate charter services using school buses, all in western Massachusetts and southern Vermont, (id. at 3, 5-6);

• Alltown Bus Service Inc. (Alltown), which primarily provides non-regulated student transportation services for schools in the metropolitan area of Chicago, Ill. and its northern suburbs. Alltown also provides occasional charter services, (id. at 3, 6);

• DS Bus Lines, Inc., which primarily provides (i) non-regulated student transportation services for schools in Kansas (Beloit, Kansas City, Lincoln, Olathe, and Shawnee), Missouri (Belton and Smithville), Colorado (the metropolitan area of Denver), and Oklahoma (the metropolitan area of Tulsa), (ii) intrastate employee shuttle services in Colorado and Texas, and (iii) occasional charter services, (id.);

• Royal Coach Lines, Inc., which primarily provides (i) non-regulated student transportation services for schools in the metropolitan area of Westchester County, N.Y. and southern Connecticut and (ii) contract and charter transportation services in the same areas for activities such as summer camps, events, and group trips, (id. at 3, 6-7);

• Local Motion, LLC, which provides non-regulated school bus, charter, and shuttle services in the metropolitan area of Boston, Mass., (id. at 3, 7);

• Butler's Bus Service, Inc. (BBS), which primarily provides non-regulated student transportation services for schools in the New Hampshire cities of Manchester, North Haverhill, Milford, and Center Barnstead, and the Vermont cities of Orleans, Lyndonville, and White River Junction. BBS also provides occasional charter services, (id.);

• TransAction Corporate Shuttles, Inc., which provides shuttle, on-demand transportation, and charter services in Massachusetts, (id. at 3, 7-8);

• Dell Transportation Corp. (Dell), which primarily provides non-regulated student transportation for schools, and occasional charter services. The geographic service area of Dell is primarily the towns of Hempstead, N.Y., Port Washington, N.Y., and Great Neck, N.Y., (id. at 3, 8);

• Hendrickson Bus Corporation (Hendrickson), which primarily provides non-regulated student transportation for schools, and charter transportation for school-related extracurricular activities such as athletic events, field trips, and other school-sponsored functions. The geographic service area of Hendrickson is primarily Bayville, N.Y. and Port Washington, N.Y., (id. at 3, 8);

• Huntington Coach Corporation (Huntington Corp.), which provides primarily non-regulated student transportation for schools, and charter transportation for school-related extracurricular activities such as athletic events, field trips, and other school-sponsored functions. The geographic service area that Huntington Corp. serves is primarily Northport, N.Y. and Huntington Station, N.Y.; (id. at 3, 8-9);

• Huntington Coach, L.L.C. (Huntington LLC), which primarily provides non-regulated student transportation for schools, and charter transportation for school-related extracurricular activities such as athletic events, field trips, and other school-sponsored functions. The geographic service area of Huntington LLC is primarily Huntington Station, N.Y., (id. at 3, 9);

• Towne Bus Corp. (Towne Corp.), which primarily provides non-regulated student transportation for schools, and charter transportation for school-related extracurricular activities such as athletic events, field trips, and other school-sponsored functions. The geographic service area of Towne Corp. is primarily Long Island, N.Y., (id. at 3, 9);

• Towne Bus LLC (Towne LLC), which primarily provides non-regulated student transportation for schools, and transportation for school-related extracurricular activities such as athletic events, field trips, and other school-sponsored functions. The geographic service area of Towne LLC is primarily Long Island, N.Y., (id. at 3, 9-10);

• Van Trans LLC (Van Trans), which primarily provides non-regulated student transportation for schools, and transportation for school-related extracurricular activities such as athletic events, field trips, and other school-sponsored functions. The geographic service area of Van Trans is primarily Bronx, N.Y., (id. at 3, 10);

• WE Transport (NY) LLC (WE NY), which primarily provides non-regulated student transportation for schools, and transportation for school-related extracurricular activities such as athletic events, field trips, and other school-sponsored functions. The geographic service area of WE NY is primarily Long Island, N.Y., (id. at 3, 10);

• WE Transport LLC (Connecticut) (WE CT), which primarily provides non-regulated student transportation for schools, and transportation for school-related extracurricular activities such as athletic events, field trips, and other school-sponsored functions. The geographic service area of WE CT is primarily Bridgeport, Conn., (id. at 3, 10-11);

• WE Transport, Inc. (WE Transport), which primarily provides non-regulated student transportation for schools, and transportation for school-related extracurricular activities such as athletic events, field trips, and other school-sponsored functions. The geographic service area of WE Transport is primarily Long Island, N.Y., (id. at 3, 11);

• George M. Carroll Transportation, Inc. dba George M. Carroll Inc. (GMCT), which primarily provides (i) regular home-to-school transportation services, with a focus on special needs students and (ii) charter services that primarily involve transportation to and from school-related extracurricular activities such as athletic events, field trips, and other school-sponsored functions, with a focus on special needs students. GMCT also provides occasional non-school-related charter services for special occasions such as weddings, wine tours, proms, sporting events, and airport trips. The geographic service area of GMCT is primarily within Orange County, N.Y., (id. at 3, 11).

Additional information about these motor carriers, including USDOT numbers, motor carrier numbers, and USDOT safety fitness ratings, can be found in the application. (See id. at 4-11; id., Ex. A.)

According to Applicants, if the transaction is approved, Van Pool will acquire all of the issued and outstanding equity stock of Lavdas, the effect of which will be to place Lavdas under control of Applicants. (Id. at 12-13.) The application describes Lavdas as a Michigan corporation with its principal place of business located in Warren, Mich., and with a core service area of the southeast region of Michigan, particularly the Metro Detroit region and Wayne, Oakland, and Macomb Counties (the Service Area). (Id. at 12.) Lavdas operates as a motor carrier primarily providing premiere luxury charter transportation service within the Service Area. (Id.) However, based on customer needs, on rare occasions Lavdas's charter operations extend beyond the Service Area to include interstate service into surrounding states, including Illinois. (Id.) Lavdas's fleet consists of approximately 63 mini-buses, 10 vans (1 to 8 passengers), 4 vans (9 to 15 passengers), 2 limousines (1 to 8 passengers), 4 limousines (9 to 15 passengers), and 14 limousines (16+ passengers). (Id.) Applicants also provide details about Lavdas's USDOT number, Federal Motor Carrier Safety Administration docket number, and safety rating in the Summary Table submitted as part of its application. (Id., Ex. A.)

Under 49 U.S.C. 14303(b), the Board must approve and authorize a transaction that it finds consistent with the public interest, taking into consideration at least (1) the effect of the proposed transaction on the adequacy of transportation to the public, (2) the total fixed charges resulting from the proposed transaction, and (3) the interest of affected carrier employees. Applicants have submitted the information required by 49 CFR 1182.2, including information demonstrating that the proposed transaction is consistent with the public interest under 49 U.S.C. 14303(b), see 49 CFR 1182.2(a)(7), and a jurisdictional statement under 49 U.S.C. 14303(g) that the aggregate gross operating revenues of the involved carriers exceeded $2 million during a consecutive 12-month period ending not more than six months before the date of the agreement of the parties, see 49 CFR 1182.2(a)(5). (Appl. 14-15.)

Applicants do not expect the transaction to have any detrimental impact on the adequacy of transportation services available for the public in Lavdas's service area. (Id. at 15.) According to Applicants, the transaction, combined with Applicants' passenger carrier management capacity, is expected to result in improved operating efficiencies, increased equipment utilization rates, and cost savings derived from economies of scale within Applicants' subsidiaries. (Id.) Applicants anticipate that the services available to the public will improve as operating efficiencies are realized and additional services and capacity are made available. (Id.) Applicants state that for at least the foreseeable future, the services currently provided by Lavdas will continue to be provided by Lavdas under the same name used to provide such services prior to the transaction. (Id.) The addition of Lavdas to Applicants' holdings will serve to enhance the viability of the Applicants' organization. (Id.) The Applicants assert that these enhancements will help ensure the provision of adequate service to the public. (Id.)

Applicants state that there is strong demand for passenger surface transportation in Lavdas's service area, which is projected to grow in the foreseeable future. (Id. at 17.) They state that Lavdas competes directly with other passenger service providers in the Service Area, which is a very competitive market due to the significant number of national, regional, and local providers operating there, including Dream Limousines, Inc., Metro Cars, Allstar Chauffeured Services, and Golden Limousine International. (Id. at 17-18.) The Service Area is geographically dispersed from the areas in which Applicants' Affiliated Carriers offer service. (Id. at 18.) While Applicants acknowledge an overlap in customer bases and service offerings between Lavdas and the Affiliated Carriers, they state that this overlap is minimal, thereby reducing any potential competitive concerns. (Id.) In light of the highly competitive nature of Lavdas's operating environment and the limited intersection between its operations and those of the Affiliated Carriers, Applicants argue that the impact of the transaction on the regulated motor carrier industry will be minimal at most, and neither competition nor the public interest will be adversely affected. (Id.)

Applicants concede that the transaction will increase fixed charges in the form of interest expense, explaining that funds will be borrowed to finance the transaction. (Id. at 16.) However, Applicants state that the increase in fixed charges will not affect the provision of transportation to the public. (Id.)

Applicants do not expect that the transaction will have substantial impacts on employees or labor conditions because Applicants intend to provide the interstate service using Lavdas's employee drivers that are already qualified to provide interstate service. (Id.) Applicants do not anticipate a measurable increase or reduction in force or changes in compensation levels or benefits, as Applicants plan to continue the existing operations of Lavdas. (Id.) However, they note that staffing redundancies could result in limited downsizing of back-office and/or managerial level personnel. (Id.)

Based on Applicants' representations, the Board finds that the transaction proposed in the application is consistent with the public interest. The application will be tentatively approved and authorized. If any opposing comments are timely filed, these findings will be deemed vacated, and, unless a final decision can be made on the record as developed, a procedural schedule will be adopted to reconsider the application. See 49 CFR 1182.6. If no opposing comments are filed by the expiration of the comment period, this notice will take effect automatically and will be the final Board action in this proceeding.

This action is categorically excluded from environmental review under 49 CFR 1105.6(c).

Board decisions and notices are available at www.stb.gov.

It is ordered:

1. The transaction is approved and authorized, subject to the filing of opposing comments.

2. If opposing comments are timely filed, the findings made in this notice will be deemed vacated.

3. This notice will be effective on January 27, 2026, unless opposing comments are filed by January 26, 2026. If any comments are filed, Applicants may file a reply by February 10, 2026.

4. A copy of this notice will be served on: (1) the U.S. Department of Transportation, Federal Motor Carrier Safety Administration, 1200 New Jersey Avenue SE, Washington, DC 20590; (2) the U.S. Department of Justice, Antitrust Division, 10th Street & Pennsylvania Avenue NW, Washington, DC 20530; and (3) the U.S. Department of Transportation, Office of the General Counsel, 1200 New Jersey Avenue SE, Washington, DC 20590.

Decided: December 8, 2025.
By the Board, Board Members Fuchs, Hedlund, and Schultz.
Zantori Dickerson,
Clearance Clerk.

[FR Doc. 2025-22592 Filed 12-11-25; 8:45 am]

BILLING CODE 4915-01-P